DEPARTMENT OF TRANSPORTATION

Federal Highway Administration

Environmental Impact Statement: Multiple Counties

AGENCY: Federal Highway Administration (FHWA), Department of Transportation.

ACTION: Notice of intent.

SUMMARY: The FHWA is issuing this notice to advise the public that an Environmental Impact Statement will be prepared for a proposed highway project that will traverse the southeastern section of the State of Alabama.

FOR FURTHER INFORMATION CONTACT: Mr. Joe D. Wilkerson, Division Administrator, Federal Highway Administration, 500 Eastern Boulevard, Suite 200, Montgomery, Alabama 36117-2018, Telephone (334) 223-7370.

SUPPLEMENTARY INFORMATION: The FHWA, in cooperation with the State of Alabama Department of Transportation, will prepare an Environmental Impact Statement (EIS) for Project JPP-1602(507). The proposal is to construct a multi-lane, limited-access roadway from the Alabama/Florida State line at US-231 to the City of Dothan and connecting to US-231 north of the City, a distance of approximately 40 miles.

Alternatives under consideration include: (1) Alternate route locations; and, (2) a no-action or no-build alternative.

The Alabama Department of Transportation and the Alabama Division Office of the Federal Highway Administration had begun the corridor study as an environmental assessment. Letter describing the proposed action and soliciting comments were sent to appropriate Federal, State, and local agencies, and to private organizations and citizens who previously expressed or were known to have interest in this proposal. A series of public meetings have been held. Based upon objections raised through this early coordination, the determination was made that an environmental impact statement is the appropriate level of documentation.

In addition to the early coordination already accomplished, additional meetings will be held as appropriate, and formal public hearings will be held. Public notice will be given of the time and place for the meetings and hearings. The Draft Environmental Impact Statement will be available for public and agency review and comment prior to the public hearings.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Joe D. Wilkerson,
Division Administrator, Montgomery, Alabama.

[FR Doc. 02-29126 Filed 11-15-02; 8:45 am]

BILLING CODE 4910-22-M